DEPARTMENT OF TRANSPORTATION

Federal Highway Administration

[Docket No. FHWA-2019-0013]

Renewal Package From the State of Texas to the Surface Transportation Project Delivery Program and Proposed Second Renewed Memorandum of Understanding (MOU) Assigning Environmental Responsibilities to the State

AGENCY: Federal Highway Administration (FHWA), U.S. Department of Transportation (DOT).

ACTION: Notice of correction.

SUMMARY: This notice corrects information contained in the Federal Register notice announcing the amended renewal package from the Texas Department of Transportation (TxDOT) requesting participation in the Surface Transportation Project Delivery Program (Program). That notice contained incorrect information regarding ongoing Tribal consultation.

FOR FURTHER INFORMATION CONTACT: For FHWA: Edward Ofori by email at Edward.Ofori@dot.gov, by telephone at 512-536-5902. FHWA Texas Division Office's normal business hours are 8 a.m. to 4:30 p.m. (Central Time), Monday-Friday, except for Federal holidays. For the State of Texas: Doug Booher by email at Doug.Booher@txdot.gov or by telephone at 512-466-7435. State business hours are the same as above although State holidays may not completely coincide with Federal holidays.

SUPPLEMENTARY INFORMATION:

Background

On Friday, June 20, 2025, at 90 FR 26403, FHWA published a notice announcing the amended renewal package from TxDOT requesting participation in the Program. In the description of responsibilities for Tribal coordination, that notice incorrectly stated that FHWA and TxDOT had received requests for formal consultations with several Tribes regarding the proposed renewal of the MOU and were engaged in ongoing consultations. FHWA and TxDOT have not received such requests and there is no active, ongoing consultation with Tribes. FHWA and TxDOT will consider the comments submitted when making its decision on the proposed MOU. Any final renewal MOU approved by FHWA may include changes based on substantive comments and consultations relating to the revised renewal MOU.

(Catalog of Federal Domestic Assistance Program Number 20.205, Highway Planning and Construction. The regulations implementing Executive Order 12372 regarding intergovernmental consultation on Federal programs and activities apply to this program.)

(Authority: 23 U.S.C. 327; 42 U.S.C. 4331, 4332; 23 CFR 771.117; 40 CFR 1507.3, 1508.4.)

Gloria M. Shepherd,
Executive Director, Federal Highway Administration.

[FR Doc. 2025-13462 Filed 7-17-25; 8:45 am]

BILLING CODE 4910-22-P